DEPARTMENT OF TRANSPORTATION

National Highway Traffic Safety Administration

[Docket No. NHTSA 01-10257; Notice 1]

Aprilia, SpA; Receipt of Application for Temporary Exemption From Federal Motor Vehicle Safety Standard No. 123

Aprilia SpA of Noale, Italy, has applied for a temporary exemption of its Habana 150 motor scooter, for two years, from a requirement of S5.2.1 (Table 1) of Federal Motor Vehicle Safety Standard No. 123 Motorcycle Controls and Displays. The basis of the request is that “compliance with the standard would prevent the manufacturer from selling a motor vehicle with an overall level of safety at least equal to the overall safety level of nonexempt vehicles,” 49 U.S.C. 30113(b)(3)(iv).

This notice of receipt of an application is published in accordance with the requirements of 49 U.S.C. 30113(b)(2) and does not represent any judgment of the agency on the merits of the application.

If a motorcycle is produced with rear wheel brakes, S5.2.1 of Standard No. 123 requires that the brakes be operable through the right foot control, though the left handlebar is permissible for motor driven cycles (Item 11, Table 1). Aprilia would like to use the left handlebar as the control for the rear brakes of its Habana 150 motorcycle, whose 150 cc engine produces more than the 5 hp maximum that separates motor driven cycles from motorcycles. According to Aprilia, “the Habana frame has not been designed to mount a right foot operated brake pedal. Applying considerable stress to this sensitive pressure point of the frame could cause failure due to fatigue unless proper design and testing procedures are performed.” The Habana 150 is described as a “retro-style” cruiser scooter, as contrasted with the Aprilia Leonardo 150 sport scooter and the Scarebo 150 touring scooter which we have previously exempted from compliance with the rear brake location requirement of Standard No. 123(see 64 FR 44264 and 65 FR 1225). Absent an exemption, Aprilia will be unable to sell the Habana 150 in the United States because the vehicle would not fully comply with Standard No. 123. It has requested an exemption for two years.

Aprilia argues that the overall level of safety of the Habana 150 equals or exceeds that of a non-exempted motor vehicle for the following reasons. The Habana 150 is equipped with an automatic transmission. As there is no foot operated gear change, “the operation and use of a motorcycle with an automatic transmission is similar to the operation and use of a bicycle.” Thus, the Habana 150 can be operated without requiring special training or practice.

Admitting that “the foot can apply more force than the hand,” Aprilia believes that this is not important with respect to operation of the Habana 150 because “even the smallest rider can apply more than enough brake actuation force.” The petitioner cites tests performed by Carter Engineering on a similar Aprilia scooter to support its statement that “a motor vehicle with a hand-operated rear wheel brake provides a greater overall level of safety than a nonexempt vehicle.” See materials in Docket No. NHTSA 98-4357. According to Aprilia, a rear wheel hand brake control allows riders to brake more quickly and securely, it takes a longer time for a rider to find and place his foot over the pedal and apply force than it does for a rider to reach and squeeze the hand lever, and there is a reduced probability of inadvertent wheel locking in an emergency braking situation. Aprilia has provided copies of its own recent test reports on the Habana, dated March 1, 2001, and May 1, 2001, which have been placed in the docket.

Aprilia also points out that European regulations allow motorcycle manufacturers the option of choosing rear brake application through either a right foot or left handlebar control, and that Australia permits the optional locations for motorcycles of any size with automatic transmissions.

An exemption would be in the public interest because the Habana 150 is intended for low-speed urban use, and “it is expected that it will be used predominantly in congested traffic areas.” Further, the design of the vehicle has been tested by long use around the world, and “neither consumer groups nor government authorities have raised safety concerns about this design.” For this reason, Aprilia argues that an exemption would also be consistent with the objectives of motor vehicle safety.

Interested persons are invited to submit comments on the application described above. Comments should refer to the docket number and the notice number, and be submitted to: Docket Management, Room PL-401, 400 Seventh Street, SW., Washington, DC 20590. It is requested but not required that 10 copies be submitted.

All comments received before the close of business on the comment closing date indicated below will be considered, and will be available for examination in the docket at the above address both before and after that date. The Docket Room is open from 10:00 a.m. until 5:00 p.m. To the extent possible, comments filed after the closing date will also be considered.

Notice of final action on the application will be published in the Federal Register pursuant to the authority indicated below.

Comment closing date: August 31, 2001.

(49 U.S.C. 30113; delegations of authority at 49 CFR 1.50. and 501.8)

Issued on July 27, 2001.
Stephen R. Kratzke,
Associate Administrator for Safety Performance Standards.

[FR Doc. 01-19188 Filed 7-31-01; 8:45 am]

BILLING CODE 4910-59-P